DEPARTMENT OF COMMERCE

National Oceanic and Atmospheric Administration

50 CFR Part 648

[Docket No. 141002822-4999-02]

RIN 0648-BE56

Magnuson-Stevens Fishery Conservation and Management Act Provisions; Fisheries of the Northeastern United States; Northeast Groundfish Fishery; Fishing Year 2014; Interim Gulf of Maine Cod Management Measures; Correction

AGENCY: National Marine Fisheries Service (NMFS), National Oceanic and Atmospheric Administration (NOAA), Commerce.

ACTION: Temporary rule, correction; extension of expiration date.

SUMMARY: This document makes corrections to the Gulf of Maine cod interim regulations published in the Federal Register on November 13, 2014. This notice allows gillnet vessels to switch their designation as either a Day or Trip gillnet vessel, an opportunity that was inadvertently not provided in the original interim action. This notice also makes several corrections and clarifications, including where the Gulf of Maine cod trip limit applies, to ensure consistency with measures implemented in the interim action. In this document, we extend the expiration date of certain temporary amendments.

DATES: Effective December 29, 2014, until May 12, 2015, except for amendatory instruction 2 of this rule, which expires on April 30, 2015. The expiration dates in amendatory instructions 2, 4a and c, and 5 through 12, published in FR Rule Doc. No. 2014-26844, November 13, 2014, at 79 FR 67362, for the amendments to §§ 648.2, 648.14, 648.80, 648.81, 648.82, 648.85, 648.86, 648.87, 648.88, and 648.89, respectively, are extended until May 12, 2015.

FOR FURTHER INFORMATION CONTACT: Brett Alger, Fishery Management Specialist, phone: 978-675-9315.

SUPPLEMENTARY INFORMATION:

Background

On November 13, 2014, we published interim management measures (79 FR 67362) to increase protection for Gulf of Maine (GOM) cod in response to a recently updated stock assessment that concluded the stock is severely depleted. The management measures included seasonal interim closure areas and a 200-lb (90.7-kg) GOM cod trip limit for all limited access commercial groundfish vessels. This document makes corrections to those measures; specifically, we are:

• Allowing gillnet vessels to change their annual declaration for the remainder of the 2014 fishing year;

• Clarifying that the 200-lb (90.7-kg) GOM cod trip limit applies specifically to the GOM Broad Stock Area (BSA);

• Correcting several labeling and typographical errors pertaining to the seasonal interim closure areas;

• Extending the effective dates noted for regulations implemented by the interim action consistent with the effective date published in the Federal Register; and

• Correcting the prohibitions and other regulations to clarify their meaning or correct cross-references.

Gillnet Category Designations

The Northeast Multispecies Fishery Management Plan (FMP) requires groundfish vessels fishing with gillnet gear to make an annual declaration as either a Day gillnet or Trip gillnet vessel. There are specific regulations and tagging requirements associated with each of these categories. For example, a Trip gillnet vessel is not limited in the number of nets may fish, but it must set and retrieve all of its gillnet gear in each trip. On the other hand, a Day gillnet vessel is limited in the number of nets it may fish, but can return to port while allowing the gear to remain in the water for a period of time, and then retrieve the gear on a subsequent trip. Once a vessel owner has elected one of these designations, the owner may not change the designation or fish under the other gillnet category for the remainder of the fishing year.

The interim rule modified gillnet management measures mid-season by reducing the number of nets that may be fished by Day gillnet vessels enrolled in a sector (see page 67367 of the interim rule) and instituting GOM cod trip limits. Vessel owners did not have a prior opportunity to consider these changes when they made their designation as a Day or Trip gillnet vessel at the beginning of the fishing year. This correction provides a one-time opportunity for gillnet vessels to change their designation after considering management changes made by the interim rule. Gillnet vessels can change their declaration for the remainder of the 2014 fishing year by submitting a revised gillnet tag form from December 29, 2014, through January 28, 2015.

Clarification on GOM Cod Trip Limits

The groundfish Regulated Mesh Area (RMA) boundaries were historically used for gear restrictions, and for setting trip limits in the commercial fishery and bag limits in the recreational fishery. In addition, Broad Stock Areas (BSA) were implemented in Amendment 16 to the FMP (75 FR 18262; April 9, 2010) to better attribute catch to specific groundfish stocks. There is a specific area northeast of Cape Cod where the GOM RMA and GOM BSA boundaries do not align (Figure 1), and which results in the GOM RMA overlapping the Inshore Georges Bank BSA. In this case, a vessel may be fishing in the Inshore Georges Bank BSA, but under the GOM RMA gear and trip regulations. The interaction of these overlapping areas was not addressed when developing the GOM cod interim rule, and there is confusion regarding where the 200-lb (90.7-kg) GOM cod trip limit applies.

The intent of the interim action was to protect GOM cod. Given that the GOM BSA aligns with the GOM cod stock area, this action clarifies that the GOM cod 200-lb (90.7-kg) trip limit is applicable to commercial vessels when fishing in the GOM BSA. A vessel fishing in the area where the Inshore Georges Bank BSA and the GOM RMA boundaries overlap is not subject to the cod possession limit for the GOM BSA because the vessel is fishing outside of the GOM BSA. As a reminder, the GOM cod interim rule measures restrict commercial groundfish vessels to fishing in only a single BSA when declaring into the GOM BSA.

Closure Area Corrections

Several of the seasonal interim closure areas published in the GOM cod interim rule (79 FR 67362; November 13, 2014; see page 67363) had non-substantive errors, such as missing column headings and incorrect labels. We are clarifying these typographical errors in the regulations that describe the locations of the seasonal interim closure areas. This notice does not move any of the seasonal interim closure areas.

Effective Date Clarification

The management measures instituted in the GOM cod interim rule are effective from November 13, 2014, until May 12, 2015. The regulatory text accompanying the rule mistakenly states that the temporary regulations are effective through April 30, 2015 (the end of the 2014 fishing year). This rule clarifies this inconsistency so that all temporary regulations implemented in the interim rule are effective until May 12, 2015.

Classification

The Assistant Administrator (AA) for Fisheries, NOAA, finds that pursuant to 5 U.S.C. 553(b)(B), there is good cause to waive prior notice and an opportunity for public comment on this action, as notice and comment would be unnecessary, and contrary to the public interest. This notice implements a measure at § 648.4(c)(2)(iii)(C) allowing gillnet vessels to change their Day or Trip gillnet vessel status in-season. This opportunity was inadvertently left out of the GOM cod interim action and does not substantively change the regulations. This notice corrects and clarifies that the 200-lb (90.7-kg) trip limit for GOM cod applies when fishing in the GOM Broad Stock Area only to eliminate confusion and does not create any new measures. This notice also makes minor clerical changes to the seasonal interim closure areas at § 648.81(o)(1). Providing notice and comment on these changes is unnecessary because all are non-substantive and do not change the operation of the fishery. Moreover, delaying the correction of inconsistencies in regulatory text is contrary to the public interest, because it could affect the enforceability of the regulations and because inaccurate regulations could lead to public confusion and potentially to incorrect behavior. For the same reasons above, the Assistant Administrator finds good cause under 5 U.S.C. 553(d)(3) to waive the 30-day delay in effectiveness and makes this rule effective immediately upon publication.

List of Subjects in 50 CFR Part 648

Fisheries, Fishing, Recordkeeping and reporting requirements.

Dated: December 18, 2014.
Samuel D. Rauch III,
Deputy Assistant Administrator for Regulatory Programs, National Marine Fisheries Service.

Therefore, NOAA amends 50 CFR part 648 as follows:

PART 648—FISHERIES OF THE NORTHEASTERN UNITED STATES

1. The authority citation for part 648 continues to read as follows:

Authority: 16 U.S.C. 1801 et seq.

2. Section 648.4 is amended by:

a. Suspending from December 29, 2014 until April 30, 2015, paragraph (c)(2)(iii)(A), and

b. Temporarily adding from December 29, 2014 until April 30, 2015, paragraph (c)(2)(iii)(C).

The addition reads as follows:

§ 648.4 Vessel permits.

* * * * *

(c) * * *

(2) * * *

(iii) * * *

(C) For vessels fishing for NE multispecies with gillnet gear, with the exception of vessels fishing under the Small Vessel permit category, an annual declaration as either a Day or Trip gillnet vessel designation as described in § 648.82(j). A vessel owner electing a Day gillnet designation must indicate the number of gillnet tags that he/she is requesting, and must include a check for the cost of the tags, unless the vessel already possesses valid gillnet tags, as identified by the Regional Administrator. A permit holder letter will be sent to the owner of each eligible gillnet vessel, informing him/her of the costs associated with this tagging requirement and providing directions for obtaining valid tags. Unless otherwise specified in this paragraph (c)(2)(iii)(C) of this section, once a vessel owner has elected this designation, he/she may not change the designation or fish under the other gillnet category for the remainder of the fishing year. From December 29, 2014, to January 28, 2015 owners of vessels that are designated as Day or Trip gillnet vessels may elect to switch to a different gillnet vessel designation for the remainder of the 2014 fishing year. Incomplete applications, as described in paragraph (e) of this section, will be considered incomplete only for the purposes of obtaining authorization to fish in the NE multispecies gillnet fishery and otherwise will be processed or issued without a gillnet authorization.

* * * * *

3. Section 648.14 is amended by

a. Suspending from December 29, 2014 until May 12, 2015, paragraphs (k)(12)(v)(K) and (L), (k)(13)(ii)(K) through (M), and (k)(16)(iii)(D) and (F); and

b. Temporarily adding from December 29, 2014 until May 12, 2015, paragraphs (k)(12)(v)(M) and (N), (k)(13)(ii)(N) through (P), and (k)(16)(iii)(G) and (H).

The additions read as follows:

§ 648.14 Prohibitions.

* * * * *

(k) * * *

(12) * * *

(v) * * *

(M) If fishing in the Regular B DAS Program specified in § 648.85(b)(6), fail to comply with the landing limits specified in § 648.85(b)(6)(iv)(L).

(N) If fishing under a Regular B DAS in the Regular B DAS program, fail to comply with the DAS flip requirements of § 648.85(b)(6)(iv)(E) if the vessel harvests and brings on board more than the landing limit for a groundfish stock of concern specified in § 648.85(b)(6)(iv)(L), other groundfish specified under § 648.86, or monkfish under § 648.94.

* * * * *

(13) * * *

(ii) * * *

(N) Possess or land per trip more than the possession or landing limits specified in § 648.86(a), (b), (c), (e), (g), (h), (j), (l), (m), (n), and (o); § 648.82(b)(9) and (10); § 648.85; or § 648.88, if the vessel has been issued a limited access NE multispecies permit or open access NE multispecies permit, as applicable.

(O) Fish for, possess at any time during a trip, or land regulated NE multispecies or ocean pout specified in § 648.86 after using up the vessel's annual DAS allocation or when not participating in the DAS program pursuant to § 648.82, unless otherwise exempted by § 648.82(b)(9), § 648.87, or § 648.89, or allowed pursuant to § 648.85(b)(6) or § 648.88.

(P) Atlantic cod. (1) Enter port in possession of more than the allowable limit of cod specified in § 648.86(b)(8), unless the vessel is fishing under the cod exemption specified in § 648.86(b)(10).

(2) Enter port in possession of more than the allowable limit of cod specified in § 648.86(b)(9).

(3) Fail to declare through VMS an intent to be exempt from the GOM cod trip limit under § 648.86(b)(8), as required under § 648.86(b)(10), or fish north of the exemption line if in possession of more than the GOM cod trip limit specified under § 648.86(b)(8).

* * * * *

(16) * * *

(iii) * * *

(G) If fishing from a recreational vessel, a vessel with a charter/party permit, or a charter or party boat, fish for or possess cod in or from the GOM Broad Stock Area, or fail to abide by § 648.89(c)(9) if transiting with cod on board.

(H) If fishing from a recreational vessel, a vessel with a charter/party permit, or a charter or party boat, fail to comply with the GOM cod possession prohibition described in § 648.89(c)(9).

* * * * *

4. Section 648.80 is amended by:

a. Suspending from December 29, 2014 until May 12, 2015, paragraphs (a)(3)(viii) and (a)(4)(ix); and

b. Temporarily adding from December 29, 2014 until May 12, 2015, paragraphs (a)(3)(ix) and (a)(4)(x).

The additions read as follows:

§ 648.80 NE Multispecies regulated mesh areas and restrictions and methods of fishing.

* * * * *

(a) * * *

(3) * * *

(ix) Other restrictions and exemptions. A vessel is prohibited from fishing in the GOM or GB Exemption Area as defined in paragraph (a)(17) of this section, except if fishing with exempted gear (as defined under this part) or under the exemptions specified in paragraphs (a)(5) through (7), (a)(9) through (a)(16) and (a)(18) through (a)(19), (d), (e), (h), and (i) of this section; or if fishing under a NE multispecies DAS; or if fishing on a sector trip; or if fishing under the Small Vessel or Handgear A permit specified in § 648.82(b)(9) and (10), respectively; or if fishing under a Handgear B permit specified in § 648.88(a); or if fishing under the scallop state waters exemptions specified in § 648.54 and paragraph (a)(11) of this section; or if fishing under a scallop DAS in accordance with paragraph (h) of this section; or if fishing pursuant to a NE multispecies open access Charter/Party or Handgear permit specified in § 648.88; or if fishing as a charter/party or private recreational vessel in compliance with § 648.89. Any gear used by a vessel in this area must be authorized under one of these exemptions. Any gear on a vessel that is not authorized under one of these exemptions must not be available for immediate use as defined in § 648.2.

(4) * * *

(x) Large-mesh vessels. When fishing in the GB Regulated Mesh Area, the minimum mesh size for any trawl net, or sink gillnet, and the minimum mesh size for any trawl net, or sink gillnet, when fishing in that portion of the GB Regulated Mesh Area that lies within the SNE Exemption Area, as described in paragraph (b)(10) of this section, that is not stowed and available for immediate use as defined in § 648.2, on a vessel or used by a vessel fishing under a DAS in the Large-mesh DAS program, specified in § 648.82(b)(0), is 8.5-inch (21.6-cm) diamond or square mesh throughout the entire net. This restriction does not apply to nets or pieces of nets smaller than 3 ft (0.9 m) × 3 ft (0.9 m), (9 sq ft (0.81 sq m)), or to vessels that have not been issued a NE multispecies permit and that are fishing exclusively in state waters.

* * * * *

5. Section 648.81 is amended by:

a. Suspending from December 29, 2014 until May 12, 2015, paragraphs (d)(3) and (4), (o)(1)(iii), (iv), and (viii) through (x); and

b. Temporarily adding from December 29, 2014 until May 12, 2015, paragraphs (d)(5) and (6), and (o)(1)(xi) through (xv).

The additions read as follows:

§ 648.81 NE multispecies closed area and measures to protect EFH.

* * * * *

(d) * * *

(5) No fishing vessel or person on a fishing vessel may enter, fish in, or be in, and no fishing gear capable of catching NE multispecies, unless otherwise allowed in this part, may be in, or on board a vessel in the area known as the Cashes Ledge Closure Area, as defined by straight lines connecting the following points in the order stated, except as specified in paragraphs (d)(6) and (i) of this section (a chart depicting this area is available from the Regional Administrator upon request):

Cashes Ledge Closure Area
Point | N. | W.
CL1 | 43°07′ | 69°02′
CL2 | 42°49.5′ | 68°46′
CL3 | 42°46.5′ | 68°50.5′
CL4 | 42°43.5′ | 68°58.5′
CL5 | 42°42.5′ | 69°17.5′
CL6 | 42°49.5′ | 69°26′
CL1 | 43°07′ | 69°02′

(6) Unless otherwise restricted under the EFH Closure(s) specified in paragraph (h) of this section, paragraph (d)(5) of this section does not apply to persons aboard fishing vessels or fishing vessels:

(i) That are fishing with or using exempted gear as defined under this part, or in the Midwater Trawl Gear Exempted Fishery as specified under § 648.80(d), and excluding pelagic gillnet gear capable of catching NE multispecies, except for vessels fishing with a single pelagic gillnet not longer than 300 ft (91.4 m) and not greater than 6 ft (1.83 m) deep, with a maximum mesh size of 3 inches (7.6 cm), provided:

(A) The net is attached to the boat and fished in the upper two-thirds of the water column;

(B) The net is marked with the owner's name and vessel identification number;

(C) There is no retention of regulated species; and

(D) There is no other gear on board capable of catching NE multispecies;

(ii) That are fishing under charter/party or recreational regulations, provided that:

(A) For vessels fishing under charter/party regulations in the Cashes Ledge Closure Area or Western GOM Area Closure, as described under paragraph (d) and (e) of this section, respectively, it has on board a letter of authorization issued by the Regional Administrator, as specified in § 648.89(e)(6);

(B) Fish species managed by the NEFMC or MAFMC that are harvested or possessed by the vessel, are not sold or intended for trade, barter or sale, regardless of where the fish are caught; and

(C) The vessel has no gear other than rod and reel or handline on board; and

(D) The vessel does not use any NE multispecies DAS during the entire period for which the letter of authorization is valid;

(iii) That are fishing with or using scallop dredge gear when fishing under a scallop DAS or when lawfully fishing in the Scallop Dredge Fishery Exemption Area as described in § 648.80(a)(11), provided the vessel does not retain any regulated NE multispecies during a trip, or on any part of a trip; or

(iv) That are fishing in the Raised Footrope Trawl Exempted Whiting Fishery, as specified in § 648.80(a)(15).

* * * * *

(o) * * *

(1) * * *

(xi) From March 1-March 31, the restrictions specified in this paragraph (o)(1) apply to Seasonal Interim Closure Area 3, which is defined by the following points, connected in the order listed by straight lines, and bounded on the west by the coastline of Massachusetts and New Hampshire:

Seasonal Interim Closure Area 3
[March 1-March 31]
Point | Latitude | Longitude
MAR1 | 43°00′ N | (¹)
MAR2 | 43°00′ N | 70°00′ W
MAR3 | 43°30′ N | 70°00′ W
MAR4 | 43°30′ N | 69°30′ W
MAR5 | 42°30′ N | 69°30′ W
MAR6 | 42°30′ N | 70°00′ W
MAR7 | 42°15′ N | 70°00′ W
MAR8 | 42°15′ N | 70°30′ W
MAR9 | 42°30′ N | 70°30′ W
MAR10 | 42°30′ N | (²)
¹ The intersection of 43°00′ N latitude and the New Hampshire coastline.
² The intersection of 42°30′ N latitude and the Massachusetts coastline.

(xii) From April 1-April 30, the restrictions specified in this paragraph (o)(1) apply to Seasonal Interim Closure Area 4, which is defined by the following points, connected in the order listed by straight lines, and bounded on the west by the coastline of Massachusetts and New Hampshire:

Seasonal Interim Closure Area 4
[April 1-April 30]
Point | Latitude | Longitude
APR1 | 43°00′ N | (1)
APR2 | 43°00′ N | 70°00′ W
APR3 | 43°30′ N | 70°00′ W
APR4 | 43°30′ N | 69°30′ W
APR5 | 43°00′ N | 69°30′ W
APR2 | 43°00′ N | 70°00′ W
APR7 | 42°15′ N | 70°00′ W
APR8 | 42°15′ N | 70°30′ W
APR9 | 42°00′ N | 70°30′ W
APR10 | 42°00′ N | (2)
¹ The intersection of 43°00′ N latitude and the New Hampshire coastline.
² The intersection of 42°00′ N latitude and the Massachusetts coastline.

(xiii) From September 1-October 31, the restrictions specified in this paragraph (o)(1) apply to Seasonal Interim Closure Area 8, which is defined by the following points, connected in the order listed by straight lines:

Seasonal Interim Closure Area 8
[September 1-October 31]
Point | Latitude | Longitude
SEP1 | 43°00′ N | 70°30′ W
SEP2 | 43°00′ N | 70°00′ W
SEP3 | 42°15′ N | 70°00′ W
SEP4 | 42°15′ N | 70°30′ W
SEP1 | 43°00′ N | 70°30′ W

(xiv) From November 1-November 30, the restrictions specified in this paragraph (o)(1) apply to Seasonal Interim Closure Area 9, which is defined by the following points, connected in the order listed by straight lines, and bounded on the west by the coastlines of Massachusetts and New Hampshire:

Seasonal Interim Closure Area 9
[November 1-November 30]
Point | Latitude | Longitude
NOV1 | 43°00′ N | (¹)
NOV2 | 43°00′ N | 70°00′ W
NOV3 | 42°15′ N | 70°00′ W
NOV4 | 42°15′ N | 70°30′ W
NOV5 | 42°00′ N | 70°30′ W
NOV6 | 42°00′ N | (²)
¹ The intersection of 43°00′ N latitude and the New Hampshire coastline.
² The intersection of 42°00′ N latitude and the Massachusetts coastline.

(xv) From December 1-December 31, the restrictions specified in this paragraph (o)(1) apply to Seasonal Interim Closure Area 10, which is defined by the following points, connected in the order listed by straight lines, and bounded on the west by the coastline of Massachusetts:

Seasonal Interim Closure Area 10
[December 1-December 31]
Point | Latitude | Longitude
DEC1 | 42°30′ N | (¹)
DEC2 | 42°30′ N | 70°00′ W
DEC3 | 42°00′ N | 70°00′ W
DEC4 | 42°00′ N | (²)
¹ The intersection of 42°30′ N latitude and the Massachusetts coastline.
² The intersection of 42°00′ N latitude and the Kingston, Massachusetts (mainland) coastline.

* * * * *

6. Section 648.82 is amended by:

a. Suspending from December 29, 2014 until May 12, 2015, paragraphs (b)(7) and (b)(8); and

b. Temporarily adding from December 29, 2014 until May 12, 2015, paragraphs (b)(9) and (b)(10).

The additions read as follows:

§ 648.82 Effort-control program for NE multispecies limited access vessels.

* * * * *

(b) * * *

(9) Small Vessel category. (i) DAS allocation. A vessel qualified and electing to fish under the Small Vessel category may retain up to 300 lb (136.1 kg) of cod, haddock, and yellowtail flounder, combined, and one Atlantic halibut per trip, without being subject to DAS restrictions, and the daily possession limits specified for other regulated species and ocean pout, as specified at § 648.86, unless otherwise specified in this paragraph (b)(9). If the vessel elects to fish in the GOM Broad Stock Area, as specified in § 648.10(k)(3)(i), the vessel may not possess or retain more than 200 lb (90.7 kg) of cod for the entire trip. If the vessel elects to fish south of the GOM Broad Stock Area, as specified in § 648.10(k)(3)(i), the vessel may retain up 300 lb (136.1 kg) of cod. Any vessel may elect to switch into the Small Vessel category, as provided in § 648.4(a)(1)(i)(I)(2), if the vessel meets or complies with the following:

(A) The vessel is 30 ft (9.1 m) or less in length overall, as determined by measuring along a horizontal line drawn from a perpendicular raised from the outside of the most forward portion of the stem of the vessel to a perpendicular raised from the after most portion of the stern.

(B) If construction of the vessel was begun after May 1, 1994, the vessel must be constructed such that the quotient of the length overall divided by the beam is not less than 2.5.

(C) Acceptable verification for vessels 20 ft (6.1 m) or less in length shall be USCG documentation or state registration papers. For vessels over 20 ft (6.1 m) in length overall, the measurement of length must be verified in writing by a qualified marine surveyor, or the builder, based on the vessel's construction plans, or by other means determined acceptable by the Regional Administrator. A copy of the verification must accompany an application for a NE multispecies permit.

(D) Adjustments to the Small Vessel category requirements, including changes to the length requirement, if required to meet fishing mortality goals, may be made by the Regional Administrator following framework procedures of § 648.90.

(ii) [Reserved]

(10) Handgear A category. A vessel qualified and electing to fish under the Handgear A category, as described in § 648.4(a)(1)(i)(A), may retain up to 300 lb (135 kg) of cod, per trip, one Atlantic halibut and the daily possession limit for other regulated species and ocean pout, as specified under § 648.86, unless otherwise specified in this paragraph (b)(10). If the vessel elects to fish in the GOM Broad Stock Area, as specified in § 648.10(k)(3)(i), the vessel may not possess or retain more than 200 lb (90.7 kg) of cod for the entire trip. If the vessel elects to fish south of the GOM Broad Stock Area, as specified in § 648.10(k)(3)(i), the vessel may retain up 300 lb (136.1 kg) of cod. If the GB cod trip limit applicable to a vessel fishing under a NE multispecies DAS permit, as specified in § 648.86(b)(9) is reduced below 300 lb (135 kg) per DAS by NMFS, the cod trip limit specified in this paragraph (b)(10) shall be adjusted to be the same as the applicable cod trip limit specified for NE multispecies DAS permits. For example, if the GB cod trip limit for NE multispecies DAS vessels was reduced to 250 lb (113.4 kg) per DAS, then the cod trip limit for a vessel issued a Handgear A category permit that is fishing outside of the GOM Broad Stock Area would also be reduced to 250 lb (113.4 kg). Qualified vessels electing to fish under the Handgear A category are subject to the following restrictions:

(i) The vessel must not use or possess on board gear other than handgear while in possession of, fishing for, or landing NE multispecies, and must have at least one standard tote on board.

(ii) A vessel may not fish for, possess, or land regulated species from March 1 through March 20 of each year.

(iii) Tub-trawls must be hand-hauled only, with a maximum of 250 hooks.

(iv) Declaration. For any such vessel that is not required to use VMS pursuant to § 648.10(b)(4), to fish for GB cod south of the GOM Broad Stock Area, as specified in § 648.10(k)(3)(i), a vessel owner or operator must obtain, and retain on board, a letter of authorization from the Regional Administrator stating an intent to fish south of the GOM Broad Stock Area and may not fish in any other area for a minimum of 7 consecutive days from the effective date of the letter of authorization. For any such vessel that is required, or elects, to use VMS pursuant to § 648.10(b)(4), to fish for GB cod south of the GOM Broad Stock Area, as specified in § 648.10(k)(3)(i), a vessel owner or operator must declare an intent to fish south of the GOM Broad Stock Area, on each trip through the VMS prior to leaving port, in accordance with instructions provided by the Regional Administrator. Such vessels may transit the GOM Broad Stock Area, as specified in § 648.10(k)(3)(i), provided that their gear is not available for immediate use as defined in § 648.2.

* * * * *

7. Section 648.85 is amended by:

a. Suspending from December 29, 2014 until May 12, 2015, paragraph (b)(6)(iv)(K); and

b. Temporarily adding from December 29, 2014 until May 12, 2015, paragraph (b)(6)(iv)(L).

The addition reads as follows:

§ 648.85 Special management programs.

* * * * *

(b) * * *

(6) * * *

(iv) * * *

(L) Landing limits. Unless otherwise specified in this paragraph (b)(6)(iv)(L), or restricted pursuant to § 648.86, a NE multispecies vessel fishing in the Regular B DAS Program described in this paragraph (b)(6), and fishing under a Regular B DAS, may not land more than 100 lb (45.5 kg) per DAS, or any part of a DAS, up to a maximum of 1,000 lb (454 kg) per trip, of any of the following species/stocks from the areas specified in paragraph (b)(6)(v) of this section: Cod, American plaice, witch flounder, SNE/MA winter flounder, and GB yellowtail flounder; and may not land more than 25 lb (11.3 kg) per DAS, or any part of a DAS, up to a maximum of 250 lb (113 kg) per trip of CC/GOM yellowtail flounder. If the vessel elects to fish in the GOM Broad Stock Area, as specified in § 648.10(k)(3)(i), the vessel may not possess or retain more than 200 lb (90.7 kg) of cod for the entire trip. In addition, trawl vessels, which are required to fish with a haddock separator trawl, as specified in paragraph (a)(3)(iii)(A) of this section, or a Ruhle trawl, as specified in paragraph (b)(6)(iv)(J) of this section, and other gear that may be required in order to reduce catches of stocks of concern as described in paragraph (b)(6)(iv)(J) of this section, are restricted to the trip limits specified in paragraph (e) of this section.

* * * * *

8. Section 648.86 is amended by:

a. Suspending from December 29, 2014 until May 12, 2015, paragraphs (b)(5) through (b)(7); and

b. Temporarily adding from December 29, 2014 until May 12, 2015, paragraphs (b)(8) through (b)(10).

The additions read as follows:

§ 648.86 NE Multispecies possession restrictions.

* * * * *

(b) * * *

(8) GOM cod landing and possession limit. Except as provided in paragraph (b)(10) of this section, or unless otherwise restricted under § 648.85, a vessel fishing under a NE multispecies limited access permit, including a vessel issued a monkfish limited access permit and fishing under the monkfish Category C or D permit provisions, may not possess or land more than 200 lb (90.7 kg) of cod in or from the GOM Broad Stock Area described in § 648.10(k)(3)(i). Cod on board a vessel subject to this landing and possession limit must be separated from other species of fish and stored so as to be readily available for inspection.

(i) Declaration. A vessel with a limited access NE multispecies permit that fishes or intends to fish on a NE multispecies trip in the GOM Broad Stock Area, as specified in § 648.10(k)(3)(i), must declare its intention to do so through the VMS or IVR, and is prohibited from fishing outside of this area for the remainder of the trip.

(ii) [Reserved]

(9) GB cod landing and maximum possession limits. Unless otherwise restricted under § 648.85, a vessel fishing under a NE multispecies DAS permit, including a vessel issued a monkfish limited access permit and fishing under the monkfish Category C or D permit provisions, may land up to 2,000 lb (907.2 kg) of cod per DAS, or part of a DAS, up to 20,000 lb (9,072 kg) provided it complies with the requirements specified in paragraph (b)(10) of this section.

(10) Exemption. A vessel with a NE multispecies limited access permit fishing under a NE multispecies trip is exempt from the landing limit described in paragraph (b)(8) of this section when fishing south of the GOM Broad Stock Area, as specified in § 648.10(k)(3)(i), provided that the vessel complies with the requirement of this paragraph (b)(10).

(i) Declaration. With the exception of a vessel declared into the U.S./Canada Management Area, as described in § 648.85(a)(3)(ii), a sector vessel, or a common pool vessel that is declared into the NE multispecies fishery and fishes or intends to fish south of the GOM Broad Stock Area, specified in § 648.10(k)(3)(i), must, prior to leaving port, declare its intention to do so through the VMS, in accordance with instructions to be provided by the Regional Administrator. In lieu of a VMS declaration, the Regional Administrator may authorize such vessels to obtain a letter of authorization. If a letter of authorization is required, such vessel may not fish north of the exemption area for a minimum of 7 consecutive days (when fishing under the multispecies DAS program), and must carry the letter of authorization on board.

(ii) A vessel with a limited access NE multispecies permit that is exempt from the GOM cod landing limit pursuant to paragraph (b)(10)(i) of this section may not fish in the GOM Broad Stock Area, as specified in § 648.10(k)(3)(i), but may transit the GOM Broad Stock Area, provided that its gear is not available for immediate use as defined in § 648.2.

* * * * *

9. Section 648.87 is amended by:

a. Suspending from December 29, 2014 until May 12, 2015, paragraphs (b)(1)(x), (c)(2)(ii)(E), and (c)(2)(iii); and

b. Temporarily adding from December 29, 2014 until May 12, 2015, paragraph (b)(1)(xi), (c)(2)(ii)(G), and (c)(2)(iv).

The additions read as follows:

§ 648.87 Sector Allocation.

* * * * *

(b) * * *

(1) * * *

(xi) Trip limits. With the exception of the GOM cod trip limit at § 648.86(b)(8), the Atlantic halibut trip limit at § 648.86(c), and the stocks listed in § 648.86(l), a sector vessel is not limited in the amount of allocated NE multispecies stocks that can be harvested on a particular fishing trip, unless otherwise specified in the operations plan.

* * * * *

(c) * * *

(2) * * *

(ii) * * *

(G) Trip limits on NE multispecies stocks for which a sector receives an allocation of ACE pursuant to paragraph (b)(1)(i) of this section (i.e., all stocks except Atlantic halibut, ocean pout, windowpane flounder, and Atlantic wolffish), unless otherwise specified § 648.86(b)(8) and paragraph (b)(1)(xi) of this section.

(iv) Regulations that may not be exempted for sector participants. The Regional Administrator may not exempt participants in a sector from the following Federal fishing regulations: Specific time and areas within the NE multispecies year-round closure areas; permitting restrictions (e.g., vessel upgrades, etc.); gear restrictions designed to minimize habitat impacts (e.g., roller gear restrictions, etc.); reporting requirements; and AMs specified at § 648.90(a)(5)(i)(D). For the purposes of paragraph (c)(2)(i) of this section, the DAS reporting requirements specified at § 648.82; the SAP-specific reporting requirements specified at § 648.85; and the reporting requirements associated with a dockside monitoring program are not considered reporting requirements, and the Regional Administrator may exempt sector participants from these requirements as part of the approval of yearly operations plans. For the purpose of paragraph (c)(2)(i) of this section, the Regional Administrator may not grant sector participants exemptions from the NE multispecies year-round closures areas defined as Essential Fish Habitat Closure Areas as defined at § 648.81(h); the Fippennies Ledge Area as defined in paragraph (c)(2)(i)(A) of this section; Closed Area I and Closed Area II, as defined at § 648.81(a) and (b), respectively, during the period February 16 through April 30; and the Western GOM Closure Area, as defined at § 648.81(e), where it overlaps with any Seasonal Interim Closure Areas, as defined at § 648.81(o)(1). This list may be modified through a framework adjustment, as specified in § 648.90.

(A) Fippennies Ledge Area. The Fippennies Ledge Area is bounded by the following coordinates, connected by straight lines in the order listed:

Fippennies Ledge Area
Point | N. Latitude | W. Longitude
1 | 42°50.0′ | 69°17.0′
2 | 42°44.0′ | 69°14.0′
3 | 42°44.0′ | 69°18.0′
4 | 42°50.0′ | 69°21.0′

(B) [Reserved]

* * * * *

10. Section 648.88 is amended by:

a. Suspending from December 29, 2014 until May 12, 2015, paragraph (a)(3); and

b. Temporarily adding from December 29, 2014 until May 12, 2015, paragraph (a)(4).

The addition reads as follows:

§ 648.88 Multispecies open access permit restrictions.

(a) * * *

(4) The vessel may possess and land up to 75 lb (90.7 kg) of cod, and up to the landing and possession limit restrictions for other NE multispecies specified in § 648.86, provided the vessel complies with the restrictions specified in paragraph (a)(2) of this section. If either the GOM or GB cod trip limit applicable to a vessel fishing under a NE multispecies DAS permit, as specified in § 648.86(b)(8) and (9), respectively, is adjusted by NMFS, the cod trip limit specified in this paragraph (a)(4) shall be adjusted proportionally (rounded up to the nearest 25 lb (11.3 kg)). For example, if the GOM cod trip limit specified at § 648.86(b)(8) doubled, then the cod trip limit for the Handgear B category fishing in the GOM Broad Stock Area would also double to 150 lb (68 kg).

* * * * *

11. Section 648.89 is amended by:

a. Suspending from December 29, 2014 until May 12, 2015, paragraphs (c)(8) and (e)(4); and

b. Temporarily adding from December 29, 2014 until May 12, 2015, paragraph (c)(9) and (e)(7).

The additions read as follows:

§ 648.89 Recreational and charter/party vessel restrictions.

* * * * *

(c) * * *

(9) Private recreational and charter/party vessels. (i) Unless otherwise restricted in paragraph (c)(2) of this section, each person on a private recreational vessel or a charter party boat may possess no more than 10 cod per day in, or harvested from, the EEZ, and no person on a vessel with a charter/party permit may possess more than 10 cod per day. Unless further restricted by the GOM Seasonal Interim Closure Areas specified under § 648.81(o)(1), charter or party boats and recreational vessels fishing in the EEZ, and vessels issued charter/party permits may not fish for or possess cod in or from the GOM Broad Stock Area as specified in § 648.10(k)(3)(i).

(ii) For purposes of counting fish, fillets will be converted to whole fish at the place of landing by dividing the number of fillets by two. If fish are filleted into a single (butterfly) fillet, such fillet shall be deemed to be from one whole fish.

(iii) Cod caught by more than one person aboard a vessel fishing pursuant to § 648.89 may be pooled in one or more containers. Compliance with the possession limits will be determined by dividing the number of fish on board by the number of persons on board. If there is a violation of the possession limit on board a vessel carrying more than one person, and cod is pooled together, the violation shall be deemed to have been committed by the owner or operator of the vessel.

(iv) Private recreational vessels, charter or party boats, and vessels issued charter/party permits in possession of cod caught lawfully outside the GOM Broad Stock Area may transit the GOM Broad Stock Area, provided all bait and hooks are removed from fishing rods and any cod on board has been gutted and stored.

* * * * *

(e) * * *

(7) GOM Closed Areas. Unless otherwise specified in this paragraph (e)(7), a vessel fishing under charter/party regulations may not fish in the GOM closed areas specified at § 648.81(d)(5), (e)(3), and (o)(1) during the time periods specified in those paragraphs, unless the vessel has on board a valid letter of authorization issued by the Regional Administrator pursuant to § 648.81(d)(6). The conditions and restrictions of the letter of authorization must be complied with for the rest of the fishing year, beginning with the start of the participation period of the letter of authorization. A vessel fishing under charter/party regulations may not fish in the GOM Cod Spawning Protection Area specified at § 648.81(n)(1) or the GOM Seasonal Interim Closure Areas at § 648.81(o)(1) during the time periods specified in that paragraph, unless the vessel complies with the requirements specified at § 648.81(n)(2)(iii).

* * * * *

[FR Doc. 2014-30106 Filed 12-24-14; 8:45 am]

BILLING CODE 3510-22-P